UNIFIED CARRIER REGISTRATION PLAN

Sunshine Act Meetings

TIME AND DATE: January 25, 2024, 12:00 p.m. to 3:00 p.m., Eastern Time.

PLACE: This meeting will be accessible via conference call and via Zoom Meeting and Screenshare. Any interested person may call (i) 1-929-205-6099 (US Toll) or 1-669-900-6833 (US Toll), Meeting ID: 949 7520 9962, to listen and participate in this meeting. The website to participate via Zoom Meeting and Screenshare is https://kellen.zoom.us/meeting/register/tJAkcOyqrjIjHNZzp3Zo54X-XjrybypgFcDG.

STATUS: This meeting will be open to the public.

MATTERS TO BE CONSIDERED: The Unified Carrier Registration Plan Dispute Resolution Subcommittee (the “Subcommittee”) will conduct a meeting to continue its work in developing and implementing the Unified Carrier Registration Plan and Agreement. The subject matter of this meeting will include:

Proposed Agenda

I. Call to Order—UCR Dispute Resolution Subcommittee Chair

The Subcommittee Chair will welcome attendees, call the meeting to order, call roll for the Subcommittee, confirm whether a quorum is present, and facilitate self-introductions.

II. Verification of Publication of Meeting Notice—UCR Executive Director

The UCR Executive Director will verify the publication of the meeting notice on the UCR website and distribution to the UCR contact list via email followed by the subsequent publication of the notice in the Federal Register.

III. Review and Approval of Subcommittee Agenda and Setting of Ground Rules—UCR Dispute Resolution Subcommittee Chair

For Discussion and Possible Subcommittee Action

The Subcommittee Agenda will be reviewed, and the Subcommittee will consider adoption.

Ground Rules

➢ Subcommittee action only to be taken in designated areas on agenda

IV. Review of the Process and Policy of Resolving Disputes Under the Unified Carrier Registration Agreement—UCR Dispute Resolution Subcommittee Chair, UCR Chief Legal Officer, UCR Executive Director

The UCR Dispute Resolution Subcommittee Chair, UCR Chief Legal Officer, and UCR Executive Director will review the current process and Policy of Resolving Disputes Under the Unified Carrier Registration Agreement.

V. Review of the Process and Policy of Resolving Disputes Under the Unified Carrier Registration Agreement as They Pertain to Disputes Filed by the Small Business in Transportation Coalition—UCR Dispute Resolution Subcommittee Chair, UCR Chief Legal Officer, UCR Executive Director

For Discussion and Possible Subcommittee Action

The UCR Dispute Resolution Subcommittee Chair, UCR Chief Legal Officer, and UCR Executive Director will review the current process and Policy of Resolving Disputes Under the Unified Carrier Registration Agreement in the context of three pending requests for dispute resolution filed by the Small Business in Transportation Coalition (“SBTC”). The Subcommittee may discuss the issue of jurisdiction over each of the three requests by the SBTC and the role of the Subcommittee in preparing these requests for hearing by the Board.

The Subcommittee may also discuss the possibility of hiring a Hearing Officer employed for the purpose of assisting the Subcommittee and the Board in the process of hearing requests for dispute resolution brought to the Board.

The Subcommittee may also discuss and recommend to the Board one or more proposed changes to the current Dispute Resolution Policy.

VI. Other Business—UCR Dispute Resolution Subcommittee Chair

The Subcommittee Chair will call for any other items Subcommittee members would like to discuss.

VII. Adjournment—UCR Dispute Resolution Subcommittee Chair

The Subcommittee Chair will adjourn the meeting.

The agenda will be available no later than 5:00 p.m. Eastern time, January 18, 2024, at: https://plan.ucr.gov.

CONTACT PERSON FOR MORE INFORMATION: Elizabeth Leaman, Chair, Unified Carrier Registration Plan Board of Directors, (617) 305-3783, eleaman@board.ucr.gov.

Alex B. Leath,
Chief Legal Officer, Unified Carrier Registration Plan.

[FR Doc. 2024-02595 Filed 2-5-24; 4:15 pm]

BILLING CODE 4910-YL-P